PEACE CORPS

Information Collection Request; Submission for OMB Review

AGENCY: Peace Corps.

ACTION: 60-day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. Chapter 35).

DATES: Comments must be submitted on or before January 31, 2014.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: Method: The Health History Form will be completed online in an interactive process in which only questions relevant to each Applicant's medical history (based on responses to previous questions) are presented.

Title: Peace Corps Volunteer Health History Form (PC 1789).

OMB Control Number: 0420-0510.

Type of Request: Extension without change of a currently approved collection.

Affected Public: Individuals.

Respondents Obligation to Reply: Voluntary.

Burden to the Public:

a. Estimated number of respondents: 10,000.

b. Estimated average burden per response: 45 minutes.

c. Frequency of response: one time.

d. Annual reporting burden: 7,500 hours.

e. Estimated annual cost to respondents: Indeterminate.

General Description of Collection: The Peace Corps Act requires that Volunteers receive health examinations prior to their service. The information collected is required for consideration for Peace Corps Volunteer service. The Health History Form is used to document the medical history of each individual Applicant. It is a self-report of pre-existing medical conditions and is used to help determine whether the Applicant will, with reasonable accommodation, be able to perform the essential functions of a Peace Corps Volunteer and complete a tour of service without undue disruption due to health problems.

Request For Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on November 21, 2013.
Denora Miller,
FOIA/Privacy Act Officer, Management.

[FR Doc. 2013-28732 Filed 11-29-13; 8:45 am]

BILLING CODE 6051-01-P